COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and services to be furnished by nonprofit agencies employing persons who are blind or have other severe disabilities.

Comments must be received on or before: July 29, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740

SUPPLEMENTARY INFORMATION: This notice is published pursuant to 41 U.S.C 47(a) (2) and 41 CFR 51-2.3. Its purpose is to provide interested persons an opportunity to submit comments on the possible impact of the proposed actions.

If the Committee approves the proposed additions, the entities of the Federal Government identified in the notice for each product or service will be required to procure the products and services listed below from nonprofit agencies employing persons who are blind or have other severe disabilities.

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

The following products and services are proposed for addition to Procurement List for production by the nonprofit agencies listed:

Products

Product/NSN: Pen, Vista Gel, Blue, Medium Point/7520-00-NIB-0614

Product/NSN: Pen, Vista Gel, Black, Medium Point/7520-00-NIB-0615

Product/NSN: Pen, Refill, Vista Gel, Blue, Medium Point/7510-00-NIB-1588

Product/NSN: Pen, Refill, Vista Gel, Black, Medium Point/7510-00-NIB-1589

NPA: Industries of the Blind, Inc., Greensboro, NC

Contract Activity: Office Supplies & Paper Products Commodity Center, New York, NY

Product/NSN: Sash Cord/4020-00-551-3343

NPA: East Texas Lighthouse for the Blind, Tyler, TX

Contract Activity: GSA, General Products Commodity Center, Fort Worth, TX

Services

Service Type/Location: Family Housing Maintenance/Sheppard AFB, Texas

NPA: Work Services Corporation, Wichita Falls, Texas

Contract Activity: USAF, 82nd Contracting Squadron, Sheppard AFB, Texas

Service Type/Location: Fulfillment Services Veterans Affairs Blind Rehabilitation Center, Augusta, Georgia

NPA: Columbia Lighthouse for the Blind, Washington, DC

Contract Activity: Veterans Affairs Medical Center, Columbia, South Carolina

Service Type/Location: Janitorial/Custodial Air Traffic Control Tower, Indianapolis, Indiana

NPA: Child-Adult Resource Services, Inc., Green Castle, Indiana

Contract Activity: Federal Aviation Administration, Des Plains, Illinois

Service Type/Location: Janitorial/Custodial Air Traffic Control Tower, Peoria, Illinois

NPA: Community Workshop & Training Center, Peoria, Illinois

Contract Activity: Federal Aviation Administration, Des Plains, Illinois

Service Type/Location: Janitorial/Custodial/Basewide, Fort Leavenworth, Kansas

NPA: The Helping Hand of Goodwill Industries Extended Employment SWS, Inc. Kansas City, Missouri

Contract Activity: USA, Director of Contracting, Fort Leavenworth, Kansas

Service Type/Location: Janitorial/Custodial/U.S. Army Reserve Center, Danville, Illinois

NPA: Rehab Products & Services, Danville, Illinois

Contract Activity: USA, HQ, 88th Regional Support Command, Fort Snelling, Minnesota

Service Type/Location: Laundry Service/Andrews AFB, Maryland

NPA: Rappahannock Goodwill Industries, Inc., Fredericksburg, Virginia

Contract Activity: USAF, 89th Contracting Squadron, Andrews AFB, Maryland

Service Type/Location: Mailing Services/USDA, Animal and Plant Health Inspection Service Food Safety Inspection Service, Minneapolis, Minnesota

NPA: Tasks Unlimited, Inc., Minneapolis, Minnesota

Contract Activity: Animal & Plant Health Inspection Service, Minneapolis

Service Type/Location: Switchboard Operation/VA Medical Center, Salem, Virginia

NPA: Virginia Industries for the Blind, Charlottesville, Virginia

Contract Activity: Veterans Affairs Medical Center, Salem, Virginia

Sheryl D. Kennerly,
Director, Information Management.

[FR Doc. 02-16354 Filed 6-27-02; 8:45 am]

BILLING CODE 6353-01-P